DEPARTMENT OF HEALTH AND HUMAN SERVICES

Centers for Disease Control and Prevention

Guide to Community Preventive Services (GCPS) Task Force

In accordance with section 10(a) (2) of the Federal Advisory Committee Act (Pub. L. 92-463), the Centers for Disease Control and Prevention (CDC) announces the following meeting:

Name: Task Force on Community Preventive Services.

Times and Dates: 8 a.m.-6:15 p.m., June 9, 2004. 8 a.m.-12:30 p.m., June 10, 2004.

Place: The Crowne Plaza Ravinia, 4355 Ashford Dunwoody Road, Atlanta, Georgia 30346-1521, telephone (770) 395-7700.

Status: Open to the public, limited only by the space available.

Purpose: The mission of the Task Force is to develop and publish a Guide to Community Preventive Services, which is based on the best available scientific evidence and current expertise regarding essential public health services and what works in the delivery of those services.

Matters To Be Discussed: Agenda items include: briefings on administrative information, options for handling insufficient evidence, and dissemination of Community Guide findings. The Task Force will also consider reviews of evidence and possible recommendations on school-based interventions for violence prevention, reducing structural barriers to cancer screening, folic acid fortification and supplementation, partner counseling and referral services for HIV prevention, and environmental and policy approaches to promoting physical activity.

Agenda items are subject to change as priorities dictate.

Contact Person or Additional Information: Peter Briss, M.D., M.P.H., Chief, Community Guide Branch, Division of Prevention Research and Analytic Methods, Epidemiology Program Office, CDC, 1600 Clifton Road, M/S E-90, Atlanta, Georgia, telephone (404) 498-6180.

Persons interested in reserving a space for this meeting should call (770) 498-6180 by close of business on June 7, 2004.

The Director, Management Analysis and Services Office, has been delegated the authority to sign Federal Register notices pertaining to announcements of meetings and other committee management activities, for both CDC and the Agency for Toxic Substances and Disease Registry.

Dated: May 21, 2004.
Joseph E. Salter,
Acting Director, Management Analysis and Services Office, Centers for Disease Control and Prevention.

[FR Doc. 04-12000 Filed 5-26-04; 8:45 am]

BILLING CODE 4163-18-P